SMALL BUSINESS ADMINISTRATION

Meeting of the Advisory Committee on Veterans Business Affairs

AGENCY: U.S. Small Business Administration (SBA).

ACTION: Notice of open Federal Advisory Committee meeting.

SUMMARY: The SBA is issuing this notice to announce the location, date, time, and agenda for the next meeting of the Advisory Committee on Veterans Business Affairs (ACVBA). The meeting is open to the public.

DATES: Thursday, September 5, 2019, from 9:00 a.m. to 4:00 p.m. EDT.

ADDRESSES: The meeting will be held at SBA Headquarters, 409 3rd Street SW, Eisenhower Conference Room B, Washington, DC 20416, and via webinar.

FOR FURTHER INFORMATION CONTACT: The meeting is open to the public; however advance notice of attendance is requested. To RSVP and confirm attendance, the general public should email veteransbusiness@sba.gov with subject line—“RSVP for September 5, 2019 ACVBA Public Meeting.”

Anyone wishing to make comments to the ACVBA must contact SBA's Office of Veterans Business Development (OVBD) no later than August 30, 2019 via email veteransbusiness@sba.gov, or Timothy Green, Deputy Associate Administrator, OVBD at (202) 205-6773. Comments for the record will be limited to five minutes to accommodate as many participants as possible.

Additionally, special accommodation requests should also be directed to OVBD at (202) 205-6773 or veteransbusiness@sba.gov. For more information on veteran owned small business programs, please visit www.sba.gov/ovbd.

Skype for Business will be utilized for this meeting. Those wishing to attend via Skype should test their systems prior to the meeting to ensure access. Help for Skype can be found at https://support.office.com/en-us/skype-for-business. Participants can join the Skype meeting at https://meet.lync.com/sba123/csimms/DF26LJ9T?sl=1. For those joining by teleconference call 1-202-765-1264, Conference ID: 26035779#.

Those attending the meeting are encouraged to arrive early to allow for security clearance into the building. Attendees should use the main entrance to access SBA Headquarters, at 3rd and D Streets SW. For security purposes attendees must:

1. Present a valid photo ID to receive a visitor badge.

2. Know the name of the event being attended: The meeting event is the Advisory Committee on Veterans Business Affairs (ACVBA).

3. Visitor badges are issued by the security officer at the main entrance. Visitors are required to display their visitor badge at all times while inside the building.

4. Laptops and other electronic devices may be inspected and logged for identification purposes.

5. Due to limited parking options, Metro's Federal Center SW station is the easiest way to access SBA Headquarters.

SUPPLEMENTARY INFORMATION: Pursuant to section 10(a)(2) of the Federal Advisory Committee Act (5 U.S.C., Appendix 2), SBA announces the meeting of the Advisory Committee on Veterans Business Affairs. The ACVBA is established pursuant to 15 U.S.C. 657(b) note and serves as an independent source of advice and policy.

The purpose of this meeting is to discuss efforts that support veteran-owned small businesses, updates on past and current events, and the ACVBA's objectives for fiscal year 2019.

Dated: August 14, 2019.
Nicole Nelson,
Committee Management Officer (Acting).

[FR Doc. 2019-17918 Filed 8-19-19; 8:45 am]

BILLING CODE 8025-01-P